DELAWARE RIVER BASIN COMMISSION

Notice of Commission Meeting and Public Hearing

Notice is hereby given that the Delaware River Basin Commission will hold an informal conference followed by a public hearing on Wednesday, July 11, 2012. The hearing will be part of the Commission's regularly scheduled business meeting. The conference session and business meeting both are open to the public and will be held at the Commission's office building located at 25 State Police Drive, West Trenton, New Jersey.

The morning conference session will begin at 11 a.m. and will include a presentation by representatives from the Schuylkill River Heritage Area on activities of the Schuylkill River Restoration Fund; and a resolution recognizing the valuable service of former Pennsylvania Alternate Commissioner John T. Hines.

Items for Public Hearing. The subjects of the public hearing to be held during the 1:30 p.m. business meeting on July 11, 2012 include draft dockets for the projects described below. Draft dockets also will be posted on the Commission's Web site at www.drbc.net. ten days prior to the meeting date. Additional public records relating to the dockets may be examined at the Commission's offices. Please contact William Muszynski at 609-883-9500, extension 221, with any docket-related questions.

1. Phoenixville Borough, D-1967-080 CP-3. An application to renew the approval of an existing discharge from the 4.0 million gallons per day (mgd) Borough of Phoenixville wastewater treatment plant (WWTP). The WWTP will continue to discharge treated effluent to the Schuylkill River at River Mile 92.47—35.0 (Delaware River—Schuylkill River) via Outfall No. 001. The WWTP is located within the Commission's Southeastern Pennsylvania Ground Water Protected Area (GWPA) in the Borough of Phoenixville, Chester County, Pennsylvania.

2. Mount Holly Municipal Utilities Authority, D-1970-133 CP-4. An application to renew the approval of an existing discharge from the 6.0 mgd Mount Holly MUA WWTP. The WWTP will continue to discharge treated effluent, via Outfall No. 1, to the North Branch Rancocas Creek, located in Water Quality Zone 2, at River Mile 111.06—8.64—4.1 (Delaware River—Rancocas Creek—North Branch Rancocas Creek) in Mount Holly Township, Burlington County, New Jersey.

3. Pen Argyl Municipal Authority, D-1975-028 CP-3. An application to renew the approval of an existing discharge from the 0.95 mgd (hydraulic design flow) Pen Argyl Municipal Authority WWTP. No modifications to the Pen Argyl Municipal Authority WWTP are proposed. The facility is located within the drainage area of the section of the non-tidal Delaware River known as the Lower Delaware, which is classified as Special Protection Waters. The WWTP will continue to discharge to an unnamed tributary of Waltz Creek, a tributary of Martins Creek, at River Mile 190.6—4.4—3.2—0.7 (Delaware River—Martins Creek—Waltz Creek—UNT to Waltz Creek) in the Borough of Pen Argyl, Northampton County, Pennsylvania.

4. Hatfield Township Municipal Authority, D-1985-036 CP-2. An application to renew the approval of an existing discharge from the 8.37 mgd Hatfield Township Municipal Authority WWTP. The WWTP will continue to discharge treated effluent to the West Branch Neshaminy Creek at River Mile 115.63—40.01—4.0 (Delaware River—Neshaminy Creek—West Branch Neshaminy Creek) via Outfall No. 001, within the Southeastern Pennsylvania GWPA, in Hatfield Township, Montgomery County, Pennsylvania.

5. Pennsylvania American Water Company, D-1992-064 CP-3. An application to renew the approval of an existing discharge from the 7.0 mgd Coatesville WWTP. The project WWTP will continue to discharge treated sewage effluent to the West Brach Brandywine Creek, a tributary of the Brandywine Creek, which is a tributary of the Christina River, at River Mile 70.7—1.5—20.0—15.5 (Delaware River—Christina River—Brandywine Creek—West Branch Brandywine Creek) in the Borough of South Coatesville, Chester County, Pennsylvania.

6. Veolia Energy, D-1995-010 CP-2. An application to renew the approval of the Tri-Gen Energy Generating Facility (TGEGF) and its subsidiary water allocation of up to 217 million gallons per month (mgm), supplied by Exelon's Schuylkill Generating Station (SGS) Intake No. 1. The water is used for cooling associated with power generation. The requested allocation is not an increase from the previous allocation. The TGEGF is located on the former PECO—Schuylkill site adjacent to the Exelon SGS and Veolia's GFCF in the City of Philadelphia, Pennsylvania.

7. Paradise Stream Resort, D-2006-020-2. An application to renew the approval of an existing discharge from the 0.05 mgd Paradise Stream Resort WWTP. The discharge is in the drainage area of the section of the non-tidal Delaware River known as the Middle Delaware, which is classified as Special Protection Waters. The WWTP will continue to discharge treated effluent to Yankee Run, a tributary of Paradise Creek, which is a tributary of the Brodhead Creek at River Mile 213—13.7—6.0—1.0 (Delaware River—Brodhead Creek—Paradise Creek—Yankee Run) in Paradise Township, Monroe County, Pennsylvania.

8. Royersford Borough, D-2006-045 CP-2. An application to renew the approval of an existing discharge from the 1.0 mgd Royersford Borough WWTP. No modifications to the Royersford Borough WWTP are proposed. The WWTP will continue to discharge to the Schuylkill River via existing Outfall No. 001 at River Mile 92.47—41.03 (Delaware River—Schuylkill River), in Upper Providence Township, Montgomery County, Pennsylvania.

9. Laurel Pipeline Company, LP, D-2007-040-2. An application to renew the approval of an existing discharge from the 70,000 gallons per day (gpd) Booth Station industrial wastewater treatment plant (IWTP). The IWTP treats groundwater from three (3) remediation wells through the use of an air stripper treatment system. The IWTP will continue to discharge to the Green Creek at River Mile 82.9—8.5—2.4—2.4 (Delaware River—Chester Creek—West Branch Chester Creek—Green Creek) in Bethel Township, Delaware County, Pennsylvania.

10. Ferro Corporation, D-1968-143-2. An application to approve a modification of the existing 2.0 mgd Ferro IWTP. The proposed modification consists of the construction and installation of an outfall pipe extension with multi-port diffuser at the end of the existing IWTP outfall. No other modifications to the IWTP facilities are proposed. The IWTP will continue to discharge to Water Quality Zone 4 of the Delaware River at River Mile 79.0 in Logan Township, Gloucester County, New Jersey.

11. Sunoco, Inc., D-1969-115-3. An application to renew approval of the existing 10 mgd Girard Point Refinery (GPR) IWTP (Outfall No. 015) and two non-contact cooling water (NCCW) outfalls (Outfalls Nos. 004 and 011). The PADEP and DRBC have based effluent limits for each discharge at the GPR on flows of 6.22 mgd, 1.3 mgd, and 1.2 mgd, respectively. The project will continue to discharge to Water Quality Zone 4 of the Delaware River at or near River Mile 92.47—2.27 (Delaware River—Schuylkill River), in the City of Philadelphia, Pennsylvania.

12. Lambertville Municipal Utilities Authority, D-1969-150 CP-2. An application to approve work on the existing 1.5 mgd Lambertville Municipal Utilities Authority WWTP that was performed in the years 2010 and 2011. The LMUA WWTP will continue to discharge treated effluent to the section of the non-tidal Delaware River known as the Lower Delaware, which is classified as Special Protection Waters, at River Mile 148.4 (Delaware River) in the City of Lambertville, Hunterdon County, New Jersey.

13. Warren County—Pequest River Municipal Utilities Authority, D-1971-096 CP-5. An application for approval of upgrades to the existing 0.5 mgd Warren County MUA Oxford WWTP. Upgrades to the treatment facilities include replacing the existing conventional activated sludge treatment system with a modified ludzak process incorporating mixed media filtration. The discharge is located within the drainage area of the section of the non-tidal Delaware River known as the Lower Delaware, which is classified as Special Protection Waters. The WWTP will continue to discharge treated effluent to the Pequest River at River Mile 197.8—7.2 (Delaware River—Pequest River), in Oxford Township, Warren County, New Jersey.

14. Deposit Village, D-1974-057 CP-3. An application to approve an existing discharge from the 0.7 mgd Village of Deposit WWTP. The WWTP was previously approved by the DRBC via Docket No. D-1974-057 CP-2 on December 12, 2006; however, the applicant submitted a docket renewal application after the expiration date of the docket (December 12, 2011). The applicant does not propose any modifications to the existing WWTP. The WWTP will continue to discharge to the West Branch Delaware River at River Mile 330.71—14.5 (Delaware River—West Branch Delaware River), within the drainage area of the section of the non-tidal Delaware River known as the Upper Delaware, which is classified as Special Protection Waters. The facility is located in the Village of Deposit, Broome County, New York.

15. Kent County Levy Court, D-1977-087 CP-3. An application to approve the existing 16.3 mgd Kent County Levy Court WWTP. The WWTP treats domestic wastewater through the use of a biological nutrient removal (BNR) treatment system. The WWTP was previously approved by the DRBC via Docket No. D-1977-087 CP-2 on July 18, 2007; however, the docket holder submitted a docket renewal application after the expiration date of the docket (November 1, 2011). No modifications to the existing WWTP are proposed. The WWTP will continue to discharge to “The Gut,” a tidal tributary to the Murderkill River, which is a tidal tributary of the Delaware Estuary (Water Quality Zone 6) at River Mile 23.0—6.4—0.8 (Delaware River—Murderkill River—The Gut), in Milford Township, Kent County, Delaware.

16. ArcelorMittal Plate, LLC, D-1979-026-2. An application to modify the DRBC approval of the existing ArcelorMittal Conshohocken IWTP, including updating the approval to reflect the current facility operations and annual average flow of 1.2 mgd. No modifications to the IWTP are proposed. The IWTP will continue to discharge to the Schuylkill River at River Mile 92.47—21.5 (Delaware River- Schuylkill River) in Plymouth Township, Montgomery County, Pennsylvania.

17. Grand Central Sanitary Landfill, Inc., D-1988-052-3. An application to approve an existing discharge from the 0.1 mgd Grand Central Sanitary Landfill IWTP. The IWTP will continue to discharge treated leachate to the Little Bushkill Creek, a tributary of the Bushkill Creek, at River Mile 184.1—8.5—8.6 (Delaware River—Bushkill Creek—Little Bushkill Creek). The IWTP discharge was most recently approved by the DRBC via Docket No. D-1988-052 CP-2 on July 30, 2005; however, the docket holder submitted a docket renewal application after the expiration date of the docket (April 30, 2009). The IWTP is located within the drainage area of the section of the non-tidal Delaware River known as the Lower Delaware, which is classified as Special Protection Waters, in Plainfield Township, Northampton County, Pennsylvania.

18. East Stroudsburg Borough, D-1992-072 CP-2. An application to renew the approval of a groundwater withdrawal (GWD) and surface water withdrawal (SWWD) allocation to continue to withdraw up to 58.26 mgm of groundwater from existing Wells Nos. PW-1, PW-2, PW-3, and PW-4 and up to 62 mgm of surface water from Sambo Creek. Total water supply system allocation will remain at 77.5 mgm. The docket also approves an allocation of up to 77.5 mgm from the Michael Creek surface water diversion. All water diverted from Michael Creek is directed to the headwater of the Sambo Creek watershed to augment the supply of water available in the Sambo Creek reservoirs operated by the Borough. The allocation is requested in order to meet projected increases in service area demand and to provide water for emergency interconnections and bulk water sales interconnections with neighboring municipalities. The withdrawal wells are located in the Borough of East Stroudsburg in the Brodhead Creek Watershed and are completed in the Buttermilk Falls Formation and Pleistocene Sand and Gravel Aquifer. The project surface water withdrawals are located in the Michael Creek and Sambo Creek watersheds in Smithfield and Middle Smithfield Townships, Monroe County, Pennsylvania. All withdrawals/diversions are located within the drainage area of the section of the non-tidal Delaware River known as the Middle Delaware, which is classified as Special Protection Waters.

19. Delaware Water Gap Borough, D-1997-032 CP-2. An application to renew the approval of an existing GWD of up to 11.0 mgm to supply the applicant's public water supply system from existing Wells Nos. 4, 6, and 7 in the Poxono Island and Bloomsburg Formations. The allocation is a decrease from the previous allocation of 15.5 mgm. The wells are located in the Delaware River and Cherry Creek Watersheds within the drainage area of the section of the non-tidal Delaware River known as the Middle Delaware, which is classified as Special Protection Waters, in Delaware Water Gap Borough, Monroe County, Pennsylvania.

20. Chalfont-New Britain Township Joint Sewage Authority, D-1999-063 CP-2. An application to upgrade and expand the existing Chalfont-New Britain Township Joint Sewage Authority (CNBTJSA) WWTP. The project includes expanding the average annual design flow from 4.0 mgd to 4.625 mgd and modifying the influent pumping, grease/grit facility, equalizations basins, and oxidation ditch treatment process. The WWTP will remain at a hydraulic design capacity of 6 mgd and continue to discharge treated domestic effluent to the Neshaminy Creek at River Mile 115.63—37.4 (Delaware River—Neshaminy Creek) in Doylestown Township, Bucks County, Pennsylvania.

21. Audubon Water Company, D-2004-004 CP-3. An application to renew the approval of a GWD of up to 1.395 mgm to supply the applicant's public water supply system from new Well No. TP-4 and to retain the existing total system allocation of 51.45 mgm from 18 additional existing wells. The new well is located in the Stockton Formation in the Schuylkill River Watershed, within the Southeastern Pennsylvania GWPA, in Lower Providence Township, Montgomery County, Pennsylvania.

22. Thompson Town, D-1985-075 CP-2. An application to approve an existing discharge from the 0.5 mgd Sackett Lake WWTP. The WWTP will continue to discharge treated effluent to Sackett Creek at River Mile 261.1—4.6—3.37—1.29—3.82—2.17 (Delaware River—Mongaup River—Rio Reservoir—Mongaup River—Mongaup Falls Reservoir—Sackett Creek) via Outfall No. 001. The discharge is in the drainage area of the section of the non-tidal Delaware River known as the Upper Delaware, which is classified as Special Protection Waters, in the Town of Thompson, Sullivan County, New York.

23. Tennessee Gas Pipeline Company, LLC, D-2011-022-1. An application to approve a SWWD to supply a temporary withdrawal of up to 5.946 mgm of water for the applicant's natural gas transmission pipeline upgrade project from two sources located on the Lackawaxen and Delaware Rivers. The allocation is requested to conduct horizontal directional drilling and hydrostatic testing associated with the pipeline upgrade. The project also approves the discharge of hydrostatic testing water in three locations to the land surface after completion of hydrostatic testing. The project is located in Berlin, Texas, and Palmyra Townships in Wayne County, Pennsylvania, Westfall and Milford Townships in Pike County, Pennsylvania, and Montague Township in Sussex County, New Jersey. Portions of the project are located within the drainage area of sections of the non-tidal Delaware River known as the Upper and Middle Delaware, which are classified as Special Protection Waters.

24. Reading Alloys, Inc., D-2011-023-1. An application to approve an existing GWD and SWWD project to supply up to 0.57 mgm of groundwater to the applicant's manufacturing plant from existing Wells Nos. 3 and 4 and 14.5 mgm of surface water from existing Intake No. 1, for potable water and industrial cooling purposes, respectively. Intake No. 1 withdraws water from an on-site pond. The project is located in the Spring Creek Watershed in Heidelberg and South Heidelberg Townships, Berks County, Pennsylvania.

25. Thompson Town, D-2011-025 CP-1. An application to approve an existing discharge from the 0.038 mgd Melody Lakes WWTP. The WWTP will continue to discharge to Turner Brook at River Mile 253.64—14.52—7.05—2.27 (Delaware River—Neversink River—Bush Kill—Turner Brook) via Outfall No. 001. The WWTP is located within the drainage area of the section of the non-tidal Delaware River known as the Middle Delaware, which is classified as Special Protection Waters, in the Town of Thompson, Sullivan County, New York.

26. Lower Bucks County Joint Municipal Authority, D-2012-001 CP-1. An application to approve the discharge of up to 0.7 mgd of filter backwash from the existing Lower Bucks County Joint Municipal Authority (LBCJMA) Water Filtration Plant (WFP). The WFP will continue to discharge treated effluent to Water Quality Zone 2 of the tidal Delaware River at River Mile 122.3 (Delaware River) via Outfall No. 003, in Tullytown Borough, Bucks County, Pennsylvania.

27. PECO Energy, D-2012-015-1. An application to approve the withdrawal and discharge of up to 0.288 mgd (8.928 mgm) of groundwater and occasional stormwater captured by dewatering operations during the remediation of subsurface soils at the former PECO Energy Norristown Manufactured Gas Plant (MGP) site. Water captured during the excavation and removal of MGP impacted soils will be treated with a temporary on-site water treatment system and discharged to either the Norristown Municipal Waste Authority WWTP or the Schuylkill River at River Mile 92.47—23.5 (Delaware River—Schuylkill River). The project is located within the Southeastern Pennsylvania GWPA in Norristown Borough, Montgomery County, Pennsylvania.

Other Agenda Items. In addition to the hearings on draft dockets, during the 1:30 p.m. business meeting the Commissioners will consider a resolution authorizing the Executive Director to renew an agreement with the Academy of Natural Sciences of Drexel University for the analysis of ambient water and wastewater samples from the non-tidal Delaware River. The agenda also includes the standard business meeting items: Adoption of the Minutes of the Commission's May 10, 2012 business meeting, announcements of upcoming meetings and events, a report on hydrologic conditions, reports by the Executive Director and the Commission's General Counsel, and a public dialogue session.

Opportunities to Comment. Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224. Written comment on items scheduled for hearing may be submitted in advance of the meeting date to: Commission Secretary, P.O. Box 7360, 25 State Police Drive, West Trenton, NJ 08628; by fax to Commission Secretary, DRBC at 609-883-9522 or by email to paula.schmitt@drbc.state.nj.us. Written comment on dockets should also be furnished directly to the Project Review Section at the above address or fax number or by email to william.muszynski@drbc.state.nj.us.

Individuals in need of an accommodation as provided for in the Americans with Disabilities Act who wish to attend the informational meeting, conference session or hearings should contact the Commission Secretary directly at 609-883-9500 ext. 203 or through the Telecommunications Relay Services (TRS) at 711, to discuss how we can accommodate your needs.

Agenda Updates. Note that conference items are subject to change and items scheduled for hearing are occasionally postponed to allow more time for the Commission to consider them. Please check the Commission's Web site, www.drbc.net, closer to the meeting date for changes that may be made after the deadline for filing this notice.

Dated: June 19, 2012.
Pamela M. Bush,
Commission Secretary.

[FR Doc. 2012-15398 Filed 6-22-12; 8:45 am]

BILLING CODE 6360-01-P